CIVIL RIGHTS COMMISSION

Sunshine Act Meetings

AGENCY: United States Commission on Civil Rights.

ACTION: Notice of Commission public business meeting.

DATES: Friday, November 8, 2019, 10:00 a.m. EDT.

ADDRESSES: Meeting to take place by telephone.

FOR FURTHER INFORMATION CONTACT: Brian Walch: (202) 376-8371; TTY: (202) 376-8116; publicaffairs@usccr.gov.

SUPPLEMENTARY INFORMATION: This business meeting is open to the public by telephone only: 800-367-2403, conference ID 590-2592. Persons with disabilities who need accommodation should contact Pamela Dunston at (202) 376-8105 or at access@usccr.gov at least seven business days before the scheduled date of the meeting.

Agenda

I. Approval of Agenda

II. Business Meeting

A. Discussion and vote on Commission Advisory Committee appointments

• Maryland

• West Virginia

B. Discussion and Vote on the Commission's report, Women in Prison: Seeking Justice Behind Bars

C. Management and Operations

• Staff Director's Report

III. Adjourn Meeting.

Dated: October 29, 2019.
David Mussatt,
Supervisory Chief, Regional Programs Unit.

[FR Doc. 2019-23890 Filed 10-29-19; 11:15 am]

BILLING CODE 6335-01-P